NUCLEAR REGULATORY COMMISSION

[DOCKET NO. 50-133; NRC-2013-0130]

Pacific Gas and Electric Company, Humboldt Bay Power Plant, Unit 3, Notice of Public Meeting on the License Termination Plan

AGENCY: Nuclear Regulatory Commission.

ACTION: Application for license amendment; public meeting.

SUMMARY: The U.S. Nuclear Regulatory Commission (NRC) is providing notice that the NRC staff will conduct a meeting to discuss and accept public comments on the Humboldt Bay Power Plant (HBPP), Unit 3 License Termination Plan (LTP) on Tuesday, August 20, 2013, at 6:00 p.m. in the Great Room at the Warfinger Building, Eureka Public Marina, #1 Marina Way, Eureka, California.

The HBPP is located about four miles southwest of the city of Eureka, Humboldt County, California and consists of 143 acres of land. Unit 3, which is the NRC licensed reactor, is currently being decommissioned with the spent fuel now stored in the onsite Independent Spent Fuel Storage Installation. Unit 3 decommissioning commenced in May 2009. Following the start of a new power generation facility in 2010, the licensee commenced with the permanent shutdown of the fossil Units 1 and 2. Units 1 and 2 are being decommissioned in conjunction with Unit 3 decommissioning.

In accordance with the NRC regulations at § 50.82(a)(9) of Title 10 of the Code of Federal Regulations (10 CFR), all power reactor licensees must submit an application for termination of their license. The application for termination of license must be accompanied or preceded by an LTP to be submitted for NRC approval. Pacific Gas and Electric submitted the proposed LTP for HBPP with a license amendment application dated May 3, 2013. The LTP would be approved by license amendment if found acceptable by the NRC staff. The amendment would be subject to such conditions and limitations as the NRC staff deems appropriate and necessary. In accordance with 10 CFR 20.1405 and 10 CFR 50.82(a)(9)(iii), the NRC is providing notice to individuals in the vicinity of the site that the NRC: (1) Is in receipt of the HBPP LTP; (2) will hold a public meeting: and (3) will accept comments from affected parties.

The HBPP LTP is available for public viewing at the NRC's Public Document Room (PDR) or electronically through the NRC Agencywide Documents Access and Management System (ADAMS) at accession numbers ML131300009 and ML131300160. Documents may be examined, and/or copied for a fee, at the PDR, located at One White Flint North, 11555 Rockville Pike (first floor), Rockville, Maryland. Publicly available records will be accessible electronically from the ADAMS Public Library component on the NRC Web site, http://www.nrc.gov. Persons who do not have access to ADAMS or who encounter problems in accessing the documents located in ADAMS should contact the NRC PDR Reference staff by telephone at 1-800-397-4209, or 301-415-4737, or by email at pdr@nrc.gov.

Any meeting updates or changes will be made available on the NRC's Public Meeting Schedule Web site at http://www.nrc.gov/public-involve/public-meetings/.

FOR FURTHER INFORMATION CONTACT: Comments or questions regarding the HBPP LTP or the public meeting may be addressed to Mr. John B. Hickman, Mail Stop T-8-F5, Office of Federal and State Materials and Environmental Management Programs, U.S. Nuclear Regulatory Commission, Washington, DC 20555-0001, telephone 301-415-3017 or via email John.Hickman@nrc.gov.

Dated at Rockville, Maryland, this 30th day of July 2013.
For The Nuclear Regulatory Commission.
Bruce Watson,
Branch Chief, Reactor Decommissioning Branch, Decommissioning and Uranium Recovery Licensing Directorate, Division of Waste Management and Environmental Protection, Office of Federal and State Materials and Environmental Management Programs.

[FR Doc. 2013-19054 Filed 8-6-13; 8:45 am]

BILLING CODE 7590-01-P